DEPARTMENT OF AGRICULTURE

Food and Nutrition Service

Agency Information Collection Activities: Proposed Collection; Comment Request—Evaluation of the Summer Electronic Benefits for Children Household-Based Demonstrations on Food Insecurity

AGENCY: Food and Nutrition Service (FNS), USDA.

ACTION: Notice.

SUMMARY: In accordance with the Paperwork Reduction Act of 1995, this notice invites the general public and other public agencies to comment on this proposed information collection. This collection is a new collection for the purpose of conducting The Evaluation of the Impact of the Summer Electronic Benefits for Children Household-Based Demonstrations on Food Insecurity.

DATES: Written comments must be received on or before January 4, 2011.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Steven Carlson, Director, Office of Research and Analysis, Food and Nutrition Service, U.S. Department of Agriculture, 3101 Park Center Drive, Room 1014, Alexandria, VA 22302. Comments may also be submitted via fax to the attention of Steven Carlson at 703-305-2576 or via e-mail to Steven.Carlson@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Steven Carlson at 703-305-2017.

SUPPLEMENTARY INFORMATION:

Title: Evaluation of the Impact of the Summer Electronic Benefits for Children Household-Based Demonstrations on Food Insecurity.

Form Number: Not yet assigned.

OMB Number: Not yet assigned.

Expiration Date: Not yet assigned.

Type of Request: New Collection of Information.

Abstract: The Agriculture, Rural Development, Food and Drug Administration, and Related Agencies Appropriations Act of 2010 (Pub. L. 111-80), Section 749(g), directed that the Secretary of Agriculture shall carry out demonstration projects to develop and test methods of providing access to food for children in urban and rural areas during the summer months when schools are not in regular session to reduce or eliminate the food insecurity and hunger of children and to improve the nutritional status of children. The Summer Electronic Benefits for Children Household-Based Demonstrations will carry out the demonstration projects Congress directed USDA to perform in this section.¹ In addition, the Act directed the Secretary of Agriculture to provide for an independent evaluation of the demonstration projects using rigorous methodologies. The Evaluation of the Impact of the Summer Electronic Benefits for Children Household-Based Demonstrations on Food Insecurity will carry out these provisions of the Act.

¹ USDA is also conducting demonstrations of enhancements to the existing Summer Food Service Program. Those demonstrations are not part of this Information Collection.

The evaluation of these projects is intended to provide policymakers with clear, rigorous and timely findings to make decisions about potential changes to Federal summer feeding programs during the next Child Nutrition reauthorization cycle. Primarily, the evaluation of the Summer Electronic Benefit Transfer for Children (SEBTC) demonstrations will examine how the provision of summer food benefits to the households of children certified for free or reduced-price school meals impacts the prevalence of very low food security among children certified for free or reduced-price meals as well as their nutritional status. Nutritional status will be examined with relatively simple measures of food choices, nutritional behaviors and Body Mass Index (BMI). Other effects, such as perceptions of parents and changes in household food supply and food expenditures will also be considered. In addition to impact measures, the evaluation will document the process and challenges of implementing the SEBTC demonstrations and the costs of operating the demonstrations. The results will provide valuable information to States considering applying for additional demonstrations as well as if the demonstrations lead to policy changes. The evaluation will gather data from up to 5 demonstration areas in 2011. Each demonstration area will consist of contiguous school districts that, collectively, have 10,000 children certified for free or reduced-price school meals. The evaluation will gather data from up to 15 demonstration areas in 2012. The 2012 demonstration areas will also consist of contiguous school districts that, collectively, have 10,000 children certified for free or reduced-price meals. In the demonstration areas households with children certified for free or reduced-price school meals will be divided into treatment and control groups.

Affected Public: Individuals/Households; State, Local and Tribal Government; Business (for-profit). Respondent Type: Individual school-aged children and their parents/guardians in each demonstration area; Electronic Benefits Transfer (EBT) processors and retail grocery vendors who operate in the demonstration areas; agencies that administer either the National School Lunch and School Breakfast, WIC,² or SNAP ³ programs in the States with a demonstration area; the agency that administers education programs in the States with a demonstration area; and, local school food authorities and schools in each demonstration area.

² Special Supplemental Nutrition Program for Women, Infants, and Children.

³ Supplemental Nutrition Assistance Program (formerly the Food Stamp Program).

Estimated Number of Respondents: The total estimated number of respondents is 98,565 (32,731 in 2011 and 65,834 in 2012). Over both years this includes: 22,059 treatment and 22,059 control parents/guardians; 8,823 attempted but incomplete parent/guardian interviews; 22,059 treatment and 22,059 control students (1 per interviewed household); 400 State agency officials from about 35 State agencies, 400 officials from about 35 local school food authorities; 700 food retailers and 6 EBT processors. These sample sizes are large because the key outcome of interest—very low food security—is a relatively rare event; these sample sizes are needed in order to meet the Congressional requirement to detect statistically significant differences in very low food security between treatment and control households.

Estimated Number of Responses per Respondent: there will be one interview per parent/guardian, one per student, 2 per food retailer, 2 per EBT processor, and 3 per State or local official.

Estimated Total Annual Responses: 21,313.

Estimated Time per Response: The estimated average response time is 61.2 minutes (1.02 hours). The estimated time of response varies from 15 to 180 minutes depending on respondent group, as shown in the table below, with an average estimated time of 6 minutes for non-responders to the participant survey.

Estimated Total Annual Burden on Respondents: The total estimated response time is 20,654.6 hours in 2011 and 43,284.2 in 2012. See the table below for estimated total annual burden for each type of respondent.

Type of respondent | Respondent type | Type of instrument | Number of respondents | Frequency of response | Estimated annual responses | Time per respondent | Annual burden hours
Individual/Households | Parent-Guardian | interviews | 44,118 | 1 | 44,118 | 1 | 44,118.00
| Parent-Guardian (non-response rate) | interviews | 8,823 | 1 | 8,823 | 0.1002 | 884.06
| Children | interviews | 44,118 | 1 | 44,118 | 0.25 | 11,029.50
State, Local, ITO | State Agency Official | interviews | 400 | 3 | 1,200 | 3 | 3,600.00
| Local School Food Authority | interviews | 400 | 3 | 1,200 | 3 | 3,600.00
Business | Food Retailer | interviews | 700 | 2 | 1,400 | 0.5 | 700.00
| EBT Processors | interviews | 6 | 2 | 12 | 1 | 12.00
Total Annual Cost to Respondents | 98,565 |  | 100,871 |  | 63,943.56
Note: Children are included in the parents non-response rate.

Dated: November 1, 2010.
Julia Paradis,
Administrator, Food and Nutrition Service.

[FR Doc. 2010-28039 Filed 11-4-10; 8:45 am]

BILLING CODE 3410-30-P